DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Social and Economic Supplement to the Current Population Survey.

OMB Control Number: 0607-0354.

Form Number(s): CPS-580 (ASEC), CPS-580 (ASEC)SP, CPS-676, CPS-676(SP).

Type of Request: Revision of a currently approved collection.

Burden Hours: 32,500.

Number of Respondents: 78,000.

Average Hours per Response: 25 minutes.

Needs and Uses: The U.S. Census Bureau has conducted the Annual Social and Economic Supplement (ASEC) annually as part of the Current Population Survey (CPS) for over 60 years. The Census Bureau and the Bureau of Labor Statistics (BLS) sponsor this supplement. The Census Bureau will conduct the ASEC in conjunction with the February, March, and April CPS.

The ASEC data collection instrument has undergone substantive revisions from the previous collection in 2013. A summary of the revisions include:

• Tailoring the order of income questions to match those sources most likely received given certain known characteristics of the household: (1) householder aged 62 and older; (2) low-income households; and (3) a default for all other household types.

• Use of a dual-pass approach through the income types first, identifying all sources of income received. Then proceed to ask amounts for those sources the respondent indicated receiving.

• Use of income ranges as a follow-up for “don't know” or “refused” income amount questions.

• Change to the disability income questions to eliminate confusion between disability income from Social Security and Supplemental Security Income.

• Collecting back-payments for disability benefits.

• Use of a new strategy to collect property income by asking separately about income from retirement assets and other assets.

• Collecting the value of assets that generate income if the respondent is unsure of the income generated.

• Asking about withdrawals and distributions from retirement accounts.

• Total revision to Health Insurance Coverage questions, asking about coverage at the present time and then coverage since January 1 of the previous year. The questions continue to concentrate on the major types of health coverage, which are employer-based, privately-purchased, or government-sponsored. The revisions surround the method by which the questions are asked.

Information on work experience, personal income, noncash benefits, health insurance coverage, and migration is collected. The work experience items in the ASEC provide a unique measure of the dynamic nature of the labor force as viewed over a one-year period. These items produce statistics that show movements in and out of the labor force by measuring the number of periods of unemployment experienced by people, the number of different employers worked for during the year, the principal reasons for unemployment, and part-/full-time attachment to the labor force. We can make indirect measurements of discouraged workers and others with a casual attachment to the labor market.

The income data from the ASEC are used by social planners, economists, government officials, and market researchers to gauge the economic well-being of the country as a whole, and selected population groups of interest. Government planners and researchers use these data to monitor and evaluate the effectiveness of various assistance programs. Market researchers use these data to identify and isolate potential customers. Social planners use these data to forecast economic conditions and to identify special groups that seem to be especially sensitive to economic fluctuations. Economists use ASEC data to determine the effects of various economic forces, such as inflation, recession, recovery, and so on, and their differential effects on various population groups.

A prime statistic of interest is the classification of people in poverty and how this measurement has changed over time for various groups. Researchers evaluate ASEC income data not only to determine poverty levels but also to determine whether government programs are reaching eligible households.

The ASEC also contains questions related to: (1) medical expenditures; (2) presence and cost of a mortgage on property; (3) child support payments; and (4) amount of child care assistance received. These questions enable analysts and policymakers to obtain better estimates of family and household income, and more precisely gauge poverty status.

Affected Public: Individuals or households.

Frequency: Annually.

Respondent's Obligation: Voluntary.

Legal Authority: Title 13, United States Code, Section 182, and Title 29, United States Code, Sections 1-9.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: December 11, 2013.
Gwellnar Banks,
Management Analyst, Office of the Chief Information Officer.

[FR Doc. 2013-29904 Filed 12-16-13; 8:45 am]

BILLING CODE 3510-07-P